DEPARTMENT OF DEFENSE

Office of the Secretary

Defense Business Practice Implementation Board; Notice of Advisory Committee Meeting

AGENCY: Department of Defense.

ACTION: Notice of Advisory Committee Meeting.

SUMMARY: The Defense Business Practice Implementation Board (DBB) will meet in open session on Wednesday, May 14, 2003, at the Pentagon, Washington, DC from 0830 until 12 p.m. The mission of the DBB is to advise the Senior Executive Council (SEC) and the Secretary of Defense on effective strategies for implementation of best business practices of interest to the Department of Defense. At this meeting, the Board's Acquisition, Human Resources, Financial Management, and General Management related task groups will deliberate on their findings and proposed recommendations related to tasks assigned earlier this year. Additional task groups may deliberate on proposed recommendations.

DATES: Wednesday, May 14, 2003, 8:30 a.m. to 12 p.m.

ADDRESSES: Pentagon, Washington, DC.

FOR FURTHER INFORMATION CONTACT: The DBB may be contacted at: Defense Business Practice Implementation Board, 1100 Defense Pentagon, Room 2E314, Washington, DC 20301-1100, via E-mail at DBB @osd.pentagon.mil, or via phone at (703) 695-0505.

SUPPLEMENTARY INFORMATION: Members of the public who wish to attend the meeting must contact the Defense Business Practices Implementation Board no later than Wednesday, May 7 for further information about admission as seating is limited. Additionally, those who wish to make oral comments or deliver written comments should also request to be scheduled, and submit a written text of the comments by Friday, May 2 to allow time for distribution to the Board members prior to the meeting. Individual oral comments will be limited to five minutes, with the total oral comment period not exceeding thirty-minutes.

Dated: April 30, 2003.
Patricia L. Toppings,
Alternate OSD Federal Register, Liaison Officer, Department of Defense.

[FR Doc. 03-11585 Filed 5-8-03; 8:45 am]

BILLING CODE 5001-08-M